NATIONAL SCIENCE FOUNDATION

Advisory Committee for Technology, Innovation and Partnerships; Cancellation of Meeting

AGENCY: National Science Foundation.

ACTION: Notice; Cancellation of meeting date.

The National Science Foundation published a notice in the Federal Register October 1, 2024, in FR Doc. 2024-22538 at 89 FR 79968, concerning a meeting of the Advisory Committee for Technology, Innovation and Partnerships. The meeting scheduled for Wednesday, October 30, 2024, at 12 p.m. (ET) is cancelled.

FOR FURTHER INFORMATION CONTACT: Please contact Crystal Robinson crrobins@nsf.gov or 703-292-8687.

Dated: October 16, 2024.
Crystal Robinson,
Committee Management Officer, National Science Foundation.

[FR Doc. 2024-24253 Filed 10-18-24; 8:45 am]

BILLING CODE 7555-01-P